DEPARTMENT OF THE INTERIOR

Bureau of Land Management

[LLES93000—L13200000-ELOOOO-241AOO, OHES-57390]

Notice of Availability of the Buckingham Coal Company Federal Coal Lease Application Environmental Assessment and Public Hearing, Perry and Morgan Counties, OH

AGENCY: Bureau of Land Management, Interior.

ACTION: Notice.

SUMMARY: In accordance with Federal coal management regulations, the Buckingham Coal Company, Federal Coal Lease by Application (LBA) Environmental Assessment (EA) is available for public review and comment. A public hearing will be held to receive comments on the EA and associated Finding of No Significant Impact (FONSI), Fair Market Value (FMV), and Maximum Economic Recovery (MER) of the coal resources for Buckingham Coal Company LBA OHES-57390.

DATES: The public hearing will be held at 7 p.m. on June 4, 2015. Written comments must be received within 30 days following the date of the public hearing.

ADDRESSES: The public hearing will be held at the Trimble High School Cafeteria, One Tomcat Drive, Glouster, Ohio 45832. Written comments on the FMV and MER should be addressed to Michael W. Glasson, BLM Eastern States, Division of Lands and Minerals, Mail Stop 9242, 20 M Street SE., Suite 950, Washington, DC 20003. Comments on the EA and FONSI should be sent to Dean Gettinger, Field Office Manager, Northeastern States Field Office, 626 E. Wisconsin Avenue, Suite 200, Milwaukee, WI 53202-4617. Comments may also be emailed to mglasson@blm.gov. Copies of the EA are available at the following office locations: BLM Eastern States Office, 20 M Street SE., Suite 950, Washington, DC 20003; and, BLM Northeastern States Field Office, 626 E. Wisconsin Avenue, Suite 200, Milwaukee, WI 53202-4617. Both documents may also be accessed on the BLM Eastern States' Web site at: http://www.blm.gov/es/st/en/prog/minerals/coal.html.

FOR FURTHER INFORMATION CONTACT: Michael W. Glasson, Solid Minerals Program Lead, telephone: 202-912-7723; or email: mglasson@blm.gov. Persons who use a telecommunications device for the deaf (TDD) may call the Federal Information Relay Service (FIRS) at 1-800-877-8339 to contact Mr. Glasson during normal business hours. The FIRS is available 24 hours a day, 7 days a week, to leave a message or question for Mr. Glasson. You will receive a reply during normal business hours.

SUPPLEMENTARY INFORMATION: The Buckingham Coal Company filed an LBA with the BLM in December of 2011, to lease Federal coal in Perry and Morgan Counties, Ohio. The U.S. Forest Service (FS) completed an EA and FONSI on March 11, 2014 and issued its consent to lease on March 11, 2014. The BLM anticipates issuing a Decision Record after the public meeting announced by this Notice and after having considered any comments received on the EA, FMV, and MER.

The lands included in the Buckingham Coal Company Federal Coal LBA OHES-57390 are located in Perry and Morgan Counties, Ohio, approximately 2-4 miles east of Corning, Ohio. The lands are described as follows:

Parcel #1, Tract X32,

Section 12, T. 12 N., R. 14 W., Ohio River Survey Meridian, Ohio.

Containing 6.00 acres.

Parcel #2 Tract X76,

Section 24, T. 12 N., R. 14 W., Ohio River Survey Meridian, Ohio.

Containing 10.00 acres.

Parcel #3 Tract X41,

Section 14, T. 12 N., R. 14 W., Ohio River Survey Meridian, Ohio.

Containing 80.00 acres.

Parcel #4 Tract X37,

Section 13, T. 12 N., R. 14 W., Ohio River Survey Meridian, Ohio.

Containing 109.25 acres.

Parcel #5 Tract X38,

Section 13 and Tract X53, Section 24, T. 12 N., R. 14 W., Ohio River Survey Meridian, Ohio.

Containing 80.00 acres.

Parcel #6 Tract X35,

Section 18 and Tract X38, Section 19, T. 8 N., R. 13 W., Ohio River Survey Meridian, Ohio.

Containing 60.94 acres (A subsurface ownership difference will be resolved on this parcel prior to lease issuance).

Parcel #7 Tract X81,

Section 24, T. 12 N., R. 14 W., Ohio River Survey Meridian, Ohio.

Containing 86.25 acres.

Containing 432.44 acres.

The company plans to mine the Federal coal as an extension from its existing underground mine if the lease is obtained. The proposed mine would recover coal from the Middle Kittanning seam at the base of the Pennsylvanian aged Lower Freeport Sandstone. As required under 43 CFR 3425.4, the public is invited to the hearing to give public oral and/or written comments on the EA, the FMV, and MER of the Federal tract. Written comments must be received within 30 days following the date of the public hearing. The meeting is being advertised in the Athens News, Athens Messenger and the Logan Daily area newspapers.

The EA addresses the cultural, socioeconomic, environmental and cumulative impacts that would likely result from leasing these coal lands. Two alternatives are addressed in the EA:

Alternative 1 (Proposed Action) The tract would be leased, as applied for.

Alternative 2 (No Action) The application would be rejected or denied. The Federal coal would therefore be bypassed.

Proprietary data marked as confidential may be submitted to the BLM in response to the solicitation of public comments. Data so marked shall be treated in accordance with the laws and the regulations governing the confidentiality of such information. A copy of the comments submitted by the public on FMV and MER, except those portions identified as proprietary by the author and meeting exemptions stated in the Freedom of Information Act, will be available for public inspection at the Eastern States Office, 20 M Street SE., Suite 950, Washington, DC 20003, 9th Floor, during regular business hours (9 a.m. to 4 p.m.), Monday through Friday. Written comments on the FMV and MER should address, but need not be limited to the following:

1. The quality and quantity of the coal resource;

2. The mining methods or methods which would achieve MER of the coal, including specifications of seams to be mined and the most desirable timing and rate of production;

3. Restrictions to mining that may affect coal recovery;

4. The price that the mined coal would bring when sold;

5. Costs, including mining and reclamation, of producing the coal and the time of production;

6. The percentage rate at which anticipated income streams should be discounted, either with inflation or in the absence of inflation, in which case the anticipated rate of inflation should be given;

7. Depreciation, depletion, amortization and other tax accounting factors;

8. The value of any surface estate where held privately;

9. Documented information on the terms and conditions of recent and similar coal land transactions in the lease sale area; and

10. Any comparable sales data of similar coal lands and coal quantities.

Before including your address, phone number, email address, or other personal identifying information in your comment, you should be aware that your entire comment—including your personal identifying information—may be made publicly available at any time. While you can ask us in your comment to withhold your personal identifying information from public review, we cannot guarantee that we will be able to do so.

Authority: 40 CFR 1506.6; 43 CFR 3425.4.

Dean Gettinger,
Northeastern States Field Office.

[FR Doc. 2015-11263 Filed 5-8-15; 8:45 am]

BILLING CODE 4310-GJ-P